DEPARTMENT OF TRANSPORTATION

Maritime Administration

[Docket No. MARAD-2010-0111]

Stakeholder Meetings Regarding the U.S.-Flag Great Lakes Fleet Revitalization Study; Correction

AGENCY: Maritime Administration, Department of Transportation.

ACTION: Correction Notice.

SUMMARY: On December 29, 2010, at 75 FR 82141, the Maritime Administration (MARAD) published notice of three public listening-session meetings it is conducting to gather data and comments to inform the Maritime Administration's U.S.-Flag Great Lakes Fleet Revitalization Study. MARAD inadvertently listed the incorrect time zone for the listening-session meetings and this notice corrects that error.

Dates and Addresses: The Cleveland, Ohio meeting will take place on February 15, 2011, from 8 a.m. to 5 p.m., local time. The meeting will be held at Hyatt Regency Cleveland at The Arcade, 420 East Superior Avenue, Cleveland, Ohio 44114.

Persons interested in attending the meeting should register by February 4, 2011.

The Duluth, Minnesota meeting will take place on February 23, 2011, from 8 a.m. to 5 p.m., local time. The meeting will be held at the Inn on Lake Superior, 350 Canal Park Drive, Duluth, Minnesota 55802.

Persons interested in attending the meeting should register by February 11, 2011.

The Chicago, Illinois meeting will take place on February 25, 2011, from 8 a.m. to 5 p.m., local time. The meeting will be held at the Sheraton Chicago Hotel and Towers, 301 East North Water Street, Chicago, Illinois 60611.

Persons interested in attending the meeting should register by February 11, 2011.

FOR FURTHER INFORMATION CONTACT: For general background information or technical information, contact Stephen Shafer, Maritime Administration, Office of Policy and Plans, 1200 New Jersey Avenue, SE., Washington, DC 20590, or by e-mail: GreatLakesStudy@dot.gov.

SUPPLEMENTARY INFORMATION: Registration: The meetings are open to the public. Advanced registration is recommended. To register, interested parties should send their name, group affiliation, and which of the three meetings they will attend to GreatLakesStudy@absconsulting.com. The meeting agenda will be sent to registered participants prior to the meeting.

The Public Meeting will be held at a site accessible to individuals with disabilities. Individuals who require accommodations such as sign language interpreters should contact ABS Consulting at GreatLakesStudy@absconsulting.com, as soon as possible, but preferably no less than five business days before the scheduled meeting.

By Order of the Maritime Administrator.
Dated: January 4, 2011.
Christine Gurland,
Secretary, Maritime Administration.

[FR Doc. 2011-327 Filed 1-10-11; 8:45 am]

BILLING CODE 4910-81-P